DEPARTMENT OF LABOR

Employment and Training Administration

[TA-W-65,602]

LeeMAH Electronics, San Francisco, CA; Notice of Termination of Investigation

Pursuant to Section 221 of the Trade Act of 1974, as amended, an investigation was initiated on March 16, 2009 in response to a petition filed on behalf of the workers at LeeMAH Electronics, Inc., San Francisco, California.

The petitioners have requested that the petition be withdrawn. Consequently, the investigation has been terminated.

Signed at Washington, DC, this 15th day of April 2009.
Richard Church,
Certifying Officer, Division of Trade Adjustment Assistance.

[FR Doc. E9-10914 Filed 5-8-09; 8:45 am]

BILLING CODE 4510-FN-P